DEPARTMENT OF JUSTICE

Antitrust Division

Notice Pursuant to the National Cooperative Research and Production Act of 1993—Dialkyl Project

Notice is hereby given that, on July 16, 2004, pursuant to Section 6(a) of the National Cooperative Research and Production Act of 1993, 15 U.S.C. 4301 et seq. (“the Act”), the Dialkyl Project has filed written notifications simultaneously with the Attorney General and the Federal Trade Commission disclosing changes in its membership and project status. The notifications were filed for the purpose of extending the Act's provisions limiting the recovery of antitrust plaintiffs to actual damages under specified circumstances. Specifically, the objectives of the Third Revised and Restated Agreememt Among Members of the Dialkyl Project are to revise the membership and administration of the Project and to set new conditions for termination of the Project. Huntington Laboratories, Huntington, IN is no longer a member. The conditions for termination having been met, the Dialkyl Project is terminated and only certain provisions remain including, inter alia, those relating to data compensation, liability, confidentiality and administrative matters.

No other changes have been made in either the membership or planned activity of the group research project.

On August 3, 1988, the Dialkyl Project filed its original notification pursuant to Section 6(a) of the Act. The Department of Justice published a notice in the Federal Register pursuant to Section 6(b) of the Act on August 25, 1988 (53 FR 32480).

The last notification was filed with the Department on May 15, 1996. A notice was published in the Federal Register pursuant to Section 6(b) of the Act on June 5, 1996 (61 FR 28596).

Dorothy B. Fountain,
Deputy Director of Operations, Antitrust Division.

[FR Doc. 04-18857 Filed 8-17-04; 8:45 am]

BILLING CODE 4410-11-M